INTERNATIONAL TRADE COMMISSION

[USITC SE-01-017]

Sunshine Act Meeting

AGENCY HOLDING THE MEETING: International Trade Commission.

TIME AND DATE: May 10, 2001 at 11 a.m.

PLACE: Room 101, 500 E Street SW., Washington, DC 20436, Telephone: (202) 205-2000.

STATUS: Open to the public.

MATTERS TO BE CONSIDERED: 1. Agenda for future meeting: none.

2. Minutes.

3. Ratification List.

4. Inv. No. TA-201-67 (Wheat Gluten) (Consistency Determination)—briefing and vote. (The Commission is currently scheduled to transmit its determination to the United States Trade Representative on May 17, 2001.)

5. Inv. No. 731-TA-925 (Preliminary) (Greenhouse Tomatoes from Canada)—briefing and vote. (The Commission is currently scheduled to transmit its determination to the Secretary of Commerce on May 14, 2001; Commissioners' opinions are currently scheduled to be transmitted to the Secretary of Commerce on May 21, 2001.)

6. Outstanding action jackets: none.

In accordance with Commission policy, subject matter listed above, not disposed of at the scheduled meeting, may be carried over to the agenda of the following meeting.

Issued: April 30, 2001.
By order of the Commission.
Donna R. Koehnke,
Secretary.

[FR Doc. 01-11230 Filed 5-1-01; 10:59 am]

BILLING CODE 7020-02-U